Title 3—

The President

Proclamation 8585 of October 14, 2010

Italian American Heritage and Culture Month, 2010

By the President of the United States of America

A Proclamation

In the five centuries since Christopher Columbus, a son of Genoa, Italy, first set sail across the Atlantic Ocean, countless individuals have followed the course he charted to seek a new life in America. Since that time, generations of Italian Americans have helped shape our society and steer the course of our history. During Italian American Heritage and Culture Month, we recognize the rich heritage of Americans of Italian descent and celebrate their immeasurable contributions to our Nation.

Bound by enduring values of faith and family, Italian Americans have flourished in all areas of our public and economic life while preserving their proud Italian traditions. Upon arrival in the United States, the Italian American community faced racial, social, and religious discrimination. Yet, Italian Americans have persevered with hope and hard work to reach for the American dream and helped build our great country. As proud service members, they have also defended the liberty and integrity of the United States since the Revolutionary War.

Today, the legacy of these intrepid immigrants is found in the millions of American men, women, and children of Italian descent who strengthen and enrich our country. Italian Americans operate thriving businesses, teach our children, serve at all levels of government, and succeed in myriad occupations. Drawing on the courage and principles of their forebears, they lead in every facet of American life, dedicating their knowledge and skills to the growth of our country.

The Great Seal of the United States declares “out of many, one.” As we forge new futures as a unified people, we must celebrate the unique and vibrant cultures that have written the American story. Many determined individuals have sought our shores as a beacon of hope and opportunity, and their spirit of limitless possibility and example of resolve continues to inspire and guide our Nation. As we honor the long history and vast contributions of Italian Americans, let us recommit to extending the promise of America that they embraced to future generations.

NOW, THEREFORE, I, BARACK OBAMA, President of the United States of America, by virtue of the authority vested in me by the Constitution and the laws of the United States, do hereby proclaim October 2010 as Italian American Heritage and Culture Month. I call upon all Americans to learn more about the history of Italian Americans, and to observe this month with appropriate programs and activities.

IN WITNESS WHEREOF, I have hereunto set my hand this fourteenth day of October, in the year of our Lord two thousand ten, and of the Independence of the United States of America the two hundred and thirty-fifth.

[FR Doc. 2010-26486

Filed 10-18-10; 11:15 am]

Billing code 3195-W1-P